DEPARTMENT OF HEALTH AND HUMAN SERVICES

Centers for Medicare & Medicaid Services

[HCFA-1191-N]

Medicare Program; Meeting of the Advisory Panel on Ambulatory Payment Classification Groups

AGENCY: Centers for Medicare & Medicaid Services (CMS), HHS.

ACTION: Notice of meeting.

SUMMARY: In accordance with section 10(a) of the Federal Advisory Committee Act (5 U.S.C. App. 2), this notice announces the second annual meeting of the Advisory Panel on Ambulatory Payment Classification Groups. The purpose of this panel is to review the ambulatory payment classification (APC) groups and provide technical advice to the Secretary of the Department of Health and Human Services (the Secretary) and the Administrator of the Centers for Medicare & Medicaid Services (the Administrator) concerning the clinical integrity of the APC groups and their associated weights. This meeting is taking place at this time because the technical advice of the panel will be considered as CMS prepares its annual Notice of Proposed Rulemaking that will propose changes to the Outpatient Prospective Payment System (OPPS) that will be published in the spring of 2002. The next meeting of the panel will be in early calendar year 2003.

DATES: The meeting is scheduled for Tuesday, January 22, Wednesday, January 23, and Thursday, January 24, 2002 from 9 a.m. to 5 p.m. e.s.t.

ADDRESSES: The meeting will be held in the Multipurpose Room at the CMS Central Office, 7500 Security Boulevard, Baltimore, MD 21244.

FOR FURTHER INFORMATION CONTACT: Angela Mason (410) 786-7452 or Valerie Barton (410) 786-2803. Please refer to the CMS Advisory Committees Information Line (1-877-449-5659 toll free)/(410-786-9379 local), or the Internet at http://www.hcfa.gov/fac/apcpage.htm for additional information and updates on committee activities.

SUPPLEMENTARY INFORMATION: The Secretary is required by section 1833(t)(9)(A) of the Social Security Act (the Act), as added by section 201(h)(1)(B) and redesignated by section 202(a)(2) of the Balanced Budget Refinement Act of 1999, to consult with an APC advisory panel. The panel will meet once annually to review the APC groups and provide technical advice to the Secretary and the Administrator of CMS concerning the clinical integrity of the groups and their associated weights. The technical advice provided by the panel at its annual meeting will be considered as CMS prepares the annual Notice of Proposed Rulemaking that will propose changes to the OPPS for the next calendar year.

The panel consists of 15 representatives of Medicare providers that are subject to the OPPS. The members were selected by the Administrator of CMS based upon either self-nominations or nominations submitted by providers or organizations.

The current members of the panel are: Michelle Burke, R.N.; Leslie Jane Collins, R.N.; Geneva Craig, R.N.; Lora A. DeWald, M.Ed; Gretchen M. Evans, R.N.; Robert E. Henkin, M.D.; Lee H. Hilborne, M.D.; Stephen T. House, M.D.; Kathleen P. Kinslow, CRNA, Ed.D; Mike Metro, R.N.; Gerald V. Naccarelli, M.D.; Beverly K. Philip, M.D.; Karen L. Rutledge, B.S.; William A. Van Decker, M.D.; and Paul E. Wallner, D.O. The panel Chairperson is Paul M. Rudolf, M.D., J.D., a CMS medical officer.

The agenda will provide for discussion and comment on the following topics:

• Reconfiguration of APCs, such as splitting of an APC and moving CPT codes from one APC to another.

• Consideration of the effects of using single versus multiple claims in setting relative weights.

• Consideration of guidelines for hospital billing of clinic visits and evaluation and management visits.

• Other technical issues concerning APC structure.

The panel will not be discussing the incorporation of the estimated cost of the pass-through devices into the base APC rates at this meeting.

For more detailed information on the agenda topics see our web site at http://www.hcfa.gov/fac/apcpage.htm.

Comments relating to this meeting must be received no later than 5 p.m. on Tuesday, January 8, 2002. Send comments to the following address: Centers for Medicare & Medicaid Services, Department of Health and Human Services, Attn: Valerie Barton, Mail Stop C4-05-17, 7500 Security Boulevard, Baltimore, MD 21244-1850.

Comments may also be sent via electronic mail to outpatientpps@cms.hhs.gov. Because of staffing and resource limitations, we cannot accept comments by facsimile (FAX) transmission and cannot acknowledge or respond individually to comments we receive. Comments that are included in the agenda topics will be addressed in the proposed rule that will be published in the spring of 2002.

The meeting is open to the public, but attendance is limited to the space available. Individuals or organizations wishing to make oral presentations on the agenda items must submit a copy of the presentation and the name, address and telephone number of the proposed presenter. In addition, all presentations must contain, at a minimum, the following supporting information and data:

• Financial relationship(s), if any, with any company whose products, services, or procedures are under consideration;

• CPT codes involved;

• APC(s) affected;

• Description of the issue;

• Clinical description of the service under discussion, with comparison to other services within the APC;

• Description of the resource inputs associated with the service under discussion, with a comparison to other services within the APC;

• Recommendations and rationale for change; and

• Expected outcome of change and potential consequences of no change.

Further details can be found on our web site at http://www.hcfa.gov/fac/apcpage.htm. Presentations submitted without the required data and information will not be considered.

In order to be scheduled to speak, this information must be received no later than 5 p.m., Tuesday, January 8, 2002 at the above address. Alternatively, the information may be sent electronically to the email address specified above. Because of staffing and resource limitations, we cannot accept this information by facsimile (FAX).

Presentations are limited to no more than 5 minutes and must be on the listed agenda topics only. The number of presentations may be limited by the time available.

In addition to formal presentations, there will be an opportunity during the meeting for public comment, limited to 1 minute for each individual or organization. The number of speakers may be limited by the time available.

Any persons wishing to attend this meeting located on Federal property must call the meeting coordinator, Angela Mason, at (410) 786-7452 to register at least 72 hours in advance. Persons attending must show a photographic identification to the Federal Protective Service or Guard Service personnel before they will be allowed to enter the building. Persons not registered in advance will not be permitted into the building and will not be permitted to attend the meeting. News media representatives should contact the CMS Press Office at (202) 690-6145.

Individuals requiring sign language interpretation for the hearing impaired or other special accommodations should contact the meeting coordinator at least 10 days before the meeting.

Authority: Section 1833 of the Social Security Act (42 U.S.C. 1395l) and section 10(a) of Public Law 92-463 (5 U.S.C. App. 2, section 10(a)); 45 CFR part 11)

(Catalog of Federal Domestic Assistance Program No. 93.773, Medicare-Hospital Insurance; and Program No. 93.774, Medicare-Supplementary Medical Insurance Program)

Dated: December 11, 2001.
Thomas A. Scully,
Administrator, Centers for Medicare & Medicaid Services.

[FR Doc. 01-30990 Filed 12-13-01; 8:45 am]

BILLING CODE 4120-01-P